FEDERAL RESERVE SYSTEM

Government in the Sunshine Meeting Notice

Agency Holding the Meeting: Board of Governors of the Federal Reserve System.

Federal Register Citation of Previous Announcement: FR 73, 58592 dated October 7, 2008.

Previously Announced Time and Date of the Meeting: 11:30 a.m., Tuesday, October 14, 2008.

Changes in the Meeting: Meeting has been canceled.

For more information please contact: Michelle Smith, Director, or Dave Skidmore, Assistant to the Board, Office of Board Members at 202-452-2955.

SUPPLEMENTARY INFORMATION: You may call 202-452-3206 beginning at approximately 5 p.m. two business days before the meeting for a recorded announcement of bank and bank holding company applications scheduled for the meeting; or you may contact the Board's Web site at http://www.federalreserve.gov for an electronic announcement that not only lists applications, but also indicates procedural and other information about the meeting.

Dated: October 14, 2008.
Robert deV. Frierson,
Deputy Secretary of the Board.

[FR Doc. E8-24681 Filed 10-14-08; 4:15 pm]

BILLING CODE 6210-01-P